FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: The Federal Emergency Management Agency/Federal Insurance Administration's Cover America II Project.

Type of Information Collection: Revision of a currently approved collection. approved collection.

OMB Number: 3067-0267.

Abstract: FEMA/Federal Insurance Administration will conduct research with consumers, business-owners and insurance agents to (1) establish flood insurance in the minds of consumers as the best method for recovering from flood damage, (2) promote flood insurance as must-have protection that is easily available and relatively inexpensive; and (3) stimulate demand for flood insurance by linking it to strong positive motivators, such as peace of mind and financial security.

Affected Public: Individuals or households, Business or Other For-Profit, Not For-Profit Institutions and State, Local or Tribal Government.

Number of Respondents: 6,490.

Estimated Total Annual Burden Hours: 2,164.

Cost to the Respondent: $44,000.

Comments: Interested persons are invited to submit written comments on the proposed information collection to David Rostkler, Desk Officer for the Federal Emergency Management Agency, Office of Information and Regulatory Affairs, Office of Management and Budget, Washington, DC 20503 on or before April 9, 2001.

FOR FURTHER INFORMATION CONTACT: Requests for additional information or copies of the information collection should be made to Muriel B. Anderson, Chief, Records Management Branch, Federal Emergency Management Agency, 500 C Street, SW., Room 316, Washington, DC 20472. Telephone number (202) 646-2625, FAX number (202) 646-3524, or email address: muriel.anderson@ fema.gov.

Dated: March 1, 2001.
Reginald Trujillo,
Director, Program Services Division, Operations Support Directorate.

[FR Doc. 01-5847 Filed 3-8-01; 8:45 am]

BILLING CODE 6718-01-P